DEPARTMENT OF COMMERCE

International Trade Administration

National Institutes of Health, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue, NW., Washington, DC.

Docket Number: 10-055. Applicant: National Institutes of Health, Bethesda, MD 20892. Instrument: Electron Microscope. Manufacturer: JEOL Limited, Japan. Intended Use: See notice at 75 FR 57738, September 22, 2010.

Docket Number: 10-056. Applicant: University of Notre Dame, Procurement Services, Notre Dame, IN 46556. Instrument: Electron Microscope. Manufacturer: FEI Company, the Netherlands. Intended Use: See notice at 75 FR 57738, September 22, 2010.

Docket Number: 10-057. Applicant: Curators of the University of Missouri, Rolla, MO 56049. Instrument: Electron Microscope. Manufacturer: FEI Company, the Netherlands. Intended Use: See notice at 75 FR 57738, September 22, 2010.

Docket Number: 10-058. Applicant: SUNY Upstate Medical University, Syracuse, NY 13210. Instrument: Electron Microscope. Manufacturer: JEOL, Ltd., Japan. Intended Use: See notice at 75 FR 57738, September 22, 2010.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: October 29, 2010.
Gregory W. Campbell,
Acting Director, Subsidies Enforcement Office, Import Administration.

[FR Doc. 2010-27889 Filed 11-3-10; 8:45 am]

BILLING CODE 3510-DS-P